DEPARTMENT OF COMMERCE

International Trade Administration

[A-421-807]

Certain Hot-Rolled Carbon Steel Flat Products from the Netherlands; Antidumping Duty Administrative Review; Extension of Time Limit

AGENCY: Import Administration, International Trade Administration, Department of Commerce.

ACTION: Notice of extension of time limits.

SUMMARY: The Department of Commerce (the Department) is extending the time limit for the preliminary results of the 2001-2002 administrative review of the antidumping duty order on certain hot-rolled carbon steel flat products from the Netherlands. This review covers one manufacturer/exporter of the subject merchandise to the United States and the period May 3, 2001 through October 31, 2002.

EFFECTIVE DATE: June 19, 2003.

FOR FURTHER INFORMATION CONTACT: Melissa Blackledge at (202) 482-3518 or Robert James at (202) 482-0649, Antidumping and Countervailing Duty Enforcement Group III, Office Eight, Import Administration, International Trade Administration, U.S. Department of Commerce, 14th Street and Constitution Avenue NW., Washington, DC 20230.

SUPPLEMENTARY INFORMATION: On December 19, 2002, in response to a request from petitioners, Bethlehem Steel Corporation, National Steel Corporation, and United States Steel Corporation, we published a notice of initiation of this administrative review in the Federal Register. See Initiation of Antidumping and Countervailing Duty Administrative Reviews and Requests for Revocation in Part, 67 FR 78722 (December 26, 2002). Pursuant to the time limits for administrative reviews set forth in section 751(a)(3)(A) of the Tariff Act of 1930, as amended (the Tariff Act), the current deadlines are August 2, 2003 for the preliminary results and November 30, 2003 for the final results. The Department, however, may extend the deadline for completion of the preliminary results of a review if it determines it is not practicable to complete the preliminary results within the statutory time limit. See 751(a)(3)(A) of the Tariff Act and section 351.213(h)(2) of the Department's regulations. In this case the Department has determined it is not practicable to complete this review within the statutory time limit because of significant issues which require additional time to evaluate. These include: Classification of respondent's U.S. sales as constructed export price or export price; examination of further manufacturing in the United States by affiliated persons; and the examination of sales by respondent's many affiliated parties in the U.S. market and in the home market.

Therefore, the Department is extending the time limit for completion of the preliminary results until November 30, 2003 in accordance with section 751(a)(3)(A) of the Tariff Act. The deadline for the final results of this review will continue to be 120 days after publication of the preliminary results.

Dated: June 12, 2003.
Barbara E. Tillman,
Acting Deputy Assistant Secretary for Import Administration, Group III.

[FR Doc. 03-15523 Filed 6-18-03; 8:45 am]

BILLING CODE 3510-DS-P